DEPARTMENT OF TRANSPORTATION

Federal Motor Carrier Safety Administration

[Docket No. FMCSA-2018-0090]

Parts and Accessories Necessary for Safe Operation; Exemption Renewal for Automobile Carriers Conference and Auto Haulers Association of America; Correction

AGENCY: Federal Motor Carrier Safety Administration (FMCSA), Department of Transportation (DOT).

ACTION: Notice of provisional renewal of exemption; correction.

SUMMARY: In a notice of provisional renewal of exemption published in the Federal Register on February 21, 2024, FMCSA announced its decision to provisionally renew an exemption requested jointly by the Automobile Carriers Conference of the American Trucking Associations and the Auto Haulers Association of America to relieve motor carriers operating stinger-steered automobile transporter equipment from the requirement to place warning flags on projecting loads of new and used motor vehicles. The provisional exemption renewal contained an error in the Summary section regarding the term of the provisional exemption. The Agency corrects this error.

DATES: This correction is effective February 26, 2024. Comments on the notice of provisional renewal of exemption must still be received on or before March 22, 2024.

FOR FURTHER INFORMATION CONTACT: David Sutula, Vehicle and Roadside Operations Division, Office of Carrier, Driver, and Vehicle Safety, FMCSA, 1200 New Jersey Avenue SE, Washington, DC 20590-0001; (202) 366-9209; MCPSV@dot.gov.

SUPPLEMENTARY INFORMATION:

Correction

In FR Doc. 2024-03446 on page 13135, in the third column, in the Federal Register of February 21, 2024, correct the provisional renewal term cited in the last sentence of the Summary section to read:

“The exemption is renewed for 6 months, unless revoked earlier.” Issued under authority delegated in 49 CFR 1.87.

Larry W. Minor,
Associate Administrator for Policy.

[FR Doc. 2024-03830 Filed 2-23-24; 8:45 am]

BILLING CODE 4910-EX-P